DEPARTMENT OF TRANSPORTATION

Federal Motor Carrier Safety Administration

[Docket No. FMCSA-2024-0208]

Notice of Review of Guidance

AGENCY: Federal Motor Carrier Safety Administration (FMCSA), Department of Transportation (DOT).

ACTION: Regulatory guidance; notice of review of guidance.

SUMMARY: The Federal Motor Carrier Safety Administration (FMCSA) will be reviewing its existing guidance documents to evaluate their continued necessity and determine whether they should be updated or eliminated. As part of this review, FMCSA invites the public to identify and provide input on existing guidance documents that are good candidates for revision or rescission.

DATES: Comments should be received on or before September 12, 2024.

ADDRESSES: You may submit comments identified by Docket Number FMCSA-2024-0208 using any of the following methods:

• Federal eRulemaking Portal: Go to https://www.regulations.gov/docket/FMCSA-2024-0208/document. Follow the online instructions for submitting comments.

• Mail: Dockets Operations, U.S. DOT, 1200 New Jersey Avenue SE, West Building Ground Floor, Room W12-140, Washington, DC 20590-0001.

• Hand Delivery or Courier: Dockets Operations, U.S. DOT, 1200 New Jersey Avenue SE, West Building Ground Floor, Room W12-140, Washington, DC 20590-0001, between 9 a.m. and 5 p.m., Monday through Friday, except Federal holidays. To be sure someone is there to help you, please call (202) 366-9317 or (202) 366-9826 before visiting Dockets Operations.

• Fax: (202) 493-2251.

FOR FURTHER INFORMATION CONTACT: Ms. Anna Winkle, Attorney-Advisor, Office of Chief Counsel, FMCSA, 1200 New Jersey Ave. SE, Washington, DC 20590-0001; 202-366-5257; anna.winkle@dot.gov.

SUPPLEMENTARY INFORMATION:

I. Public Participation and Request for Comments

A. Comments Sought for Consideration During Regular Review of FMCSA Guidance Documents

FMCSA's primary mission is to reduce crashes, injuries and fatalities involving large trucks and buses. In carrying out this safety mandate, FMCSA develops and enforces data-driven regulations and produces guidance documents to clarify regulatory requirements and aid compliance. Section 5203(c) of the Fixing America's Surface Transportation (FAST) Act requires that, not less than once every 5 years, FMCSA conduct a comprehensive review (“regular review”) of the guidance documents it has issued to determine whether such documents are consistent and clear, uniformly and consistently enforced, and still necessary. A similar comprehensive review was conducted in early 2020, culminating in the effective reissuance of all of the guidance in FMCSA's guidance portal on March 3, 2020, the date the Department announced the availability of the regulatory guidance portals.¹ Prior to beginning a regular review, FMCSA is required to publish a notice and request for comment in the Federal Register that solicits input from stakeholders on which guidance documents should be updated or eliminated. This notice satisfies this statutory requirement.

¹ See 85 FR 12663 and https://www.transportation.gov/guidance/operating-administration-guidance-portals.

Accordingly, FMCSA seeks written input from the public on all FMCSA guidance documents that are good candidates for revision or rescission including guidance published at FMCSA's guidance portal page located at https://www.fmcsa.dot.gov/guidance. The public is encouraged to identify guidance documents that: (1) are inconsistent or unclear; (2) may not be conducive to uniform or consistent enforcement; or (3) are no longer necessary.

B. Submitting Comments

If you submit a comment, please include the docket number for this notice (FMCSA-2024-0208), indicate the specific guidance document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2024-0208/document, click on this notice, click “Comment,” and type your comment into the text box on the following screen.

If you submit your comments by mail or hand delivery, submit them in an unbound format, no larger than 8½ by 11 inches, suitable for copying and electronic filing. If you submit comments by mail and would like to know that they reached the facility, please enclose a stamped, self-addressed postcard or envelope.

C. Content of Comments

FMCSA will consider all comments and material received during the comment period. To maximize the usefulness of comments, FMCSA encourages commenters to provide the following information.

1. A specific reference to the guidance document and associated statutes or regulations that the comment discusses. This should include the title or subject, the date of issuance, guidance document number if available (e.g., FMCSA-CDL-383.73-FAQ01(2024-05-20)), internet address of guidance location, or other source of the guidance document. You may also provide copies of the guidance if it is not readily identifiable through these sources. If available, the reference should include citations to the associated statutes (e.g., FAST Act) or regulations in the Code of Federal Regulations. A specific reference will assist FMCSA in identifying the guidance document and any associated statutory or regulatory requirements.

2. A description of the problem with the specific guidance document. A comment that explains why the guidance document should be eliminated or revised is more useful than a comment that merely asserts that the guidance should be eliminated or revised. Comments that reflect experience with the guidance or a related statutory or regulatory requirement and provide data describing that experience are more helpful than comments that are not tied to direct experience.

3. A description of alternatives that are better than the specific guidance document. If the commenter believes that the objective that motivated the guidance document may be achieved using a better alternative, the commenter should describe that alternative in detail. Likewise, if the commenter believes that there is not a better alternative or there is not a legitimate objective served by the guidance document, then that should be explained in the comment.

4. Examples of entities that are, have been, or will be negatively affected by the specific guidance document and examples of entities that will benefit if the guidance is removed or revised. A comment listing specific entities is more useful because it will assist FMCSA in investigating the guidance document and its impact.

D. Confidential Business Information (CBI)

CBI is commercial or financial information that is both customarily and actually treated as private by its owner. Under the Freedom of Information Act (5 U.S.C. 552), CBI is exempt from public disclosure. If your comments responsive to the notice contain commercial or financial information that (1) is customarily treated as confidential and that you actually treat as confidential, and (2) is relevant or responsive to the notice, you may request confidential treatment. It is important that you clearly designate the submitted comments as CBI. Please mark each page of your submission that constitutes CBI as “PROPIN” to indicate it contains proprietary information. For pages that contain both CBI and non-confidential information, commenters should use markings (e.g., brackets, highlighting, font changes, or other markings) to identify the portions of text that constitute CBI and provide a description of the markings used. FMCSA will treat such marked submissions as confidential under the Freedom of Information Act, and they will not be placed in the public docket for this notice. FMCSA is currently treating electronic submission as an acceptable method for submitting CBI to the Agency. Submissions containing CBI should be sent electronically to Brian Dahlin, Chief, Regulatory Evaluation Division, Office of Policy at Brian.Dahlin@dot.gov. At this time, you need not send a duplicate hardcopy of your electronic CBI submissions to FMCSA headquarters. Any comments FMCSA receives not specifically designated as CBI will be placed in the public docket for this notice.

E. Viewing Comments and Documents

To view comments, as well as any documents mentioned as being available in the docket, go to https://www.regulations.gov/docket/FMCSA-2024-0208/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

F. Privacy Act

In accordance with 5 U.S.C. 553(c), DOT solicits comments from the public to better inform its regulatory process. DOT posts these comments, without edit, including any personal information the commenter provides, to www.regulations.gov. As described in the system of records notice DOT/ALL 14 (Federal Docket Management System (FDMS)), which can be reviewed at https://www.transportation.gov/individuals/privacy/privacy-act-system-records-notices, the comments are searchable by the name of the submitter.

Sue Lawless,
Acting Deputy Administrator.

[FR Doc. 2024-17966 Filed 8-12-24; 8:45 am]

BILLING CODE 4910-EX-P